DEPARTMENT OF THE INTERIOR

Fish and Wildlife Service

Aquatic Nuisance Species Task Force Communications, Education and Outreach Committee Meeting

AGENCY: Fish and Wildlife Service, Interior.

ACTION: Notice of meeting.

SUMMARY: This notice announces a meeting of the Aquatic Nuisance Species (ANS) Task Force Communications, Education and Outreach Committee. The meeting topics are identified in the SUPPLEMENTARY INFORMATION.

DATES: The Communications, Education and Outreach Committee will meet from 1:30 p.m. to 4 p.m., Wednesday, September 20, 2000.

ADDRESSES: The Communications, Education and Outreach Committee Meeting will be held at the U.S. Fish and Wildlife Service headquarters at 4401 N. Fairfax Drive, Arlington, Virginia in Room 800.

FOR FURTHER INFORMATION CONTACT: Joe Starinchak, Outreach Coordinator, Aquatic Nuisance Species Task Force, at 703-358-2018 or by e-mail at joe_starinchak@fws.gov

SUPPLEMENTARY INFORMATION: Pursuant to section 10(a)(2) of the Federal Advisory Committee Act (5 U.S.C. App. I), this notice announces a meeting of the Aquatic Nuisance Species Task Force Communications, Education and Outreach Committee. The ANS Task Force was established by the Nonindigenous Aquatic Nuisance Prevention and Control Act of 1990.

Topics to be covered during the Communications, Education & Outreach Committee meeting include: Message development and processes to raise public awareness about aquatic nuisance species.

Minutes of the meeting will be maintained by the Executive Secretary, Aquatic Nuisance Species Task Force, Suite 840, 4401 North Fairfax Drive, Arlington, Virginia 22203-1622, and will be available for public inspection during regular business hours, Monday through Friday.

Dated: August 30, 2000.
Cathleen I. Short,
Co-Chair, Aquatic Nuisance Species Task Force, Assistant Director—Fisheries and Habitat Conservation.

[FR Doc. 00-22720 Filed 9-5-00; 8:45 am]

BILLING CODE 4310-55-M